CONSUMER PRODUCT SAFETY COMMISSION

16 CFR Chapter II

[Docket No. CPSC-2011-0074]

Table Saw Blade Contact Injuries; Notice of Extension of Time for Comments

AGENCY: U.S. Consumer Product Safety Commission.

ACTION: Comment request.

SUMMARY: The Consumer Product Safety Commission (“CPSC” or “Commission” or “we”) is considering whether a new performance safety standard is needed to address an unreasonable risk of injury associated with table saws. We are conducting this proceeding under the authority of the Consumer Product Safety Act (“CPSA”), 15 U.S.C. 2051-2084. In the Federal Register of October 11, 2011 (76 FR 62678), we published an advance notice of proposed rulemaking (“ANPR”), inviting written comments concerning the risk of injury associated with table saw blade contact, regulatory alternatives, other possible means to address this risk, and other topics or issues. In response to a request from the Power Tool Institute, Inc., we are announcing an extension of the comment period for 60 days.

DATES: Submit comments by February 10, 2012.

ADDRESSES: You may submit comments, identified by Docket No. CPSC-2011-0074, by any of the following methods:

Electronic Submissions

Submit electronic comments in the following way: Federal eRulemaking Portal: http://www.regulations.gov. Follow the instructions for submitting comments.

To ensure timely processing of comments, the Commission is no longer accepting comments submitted by electronic mail (email), except through: http://www.regulations.gov.

Written Submissions

Submit written submissions in the following way:

Mail/Hand delivery/Courier (for paper, disk, or CD-ROM submissions), preferably in five copies, to: Office of the Secretary, U.S. Consumer Product Safety Commission, Room 502, 4330 East West Highway, Bethesda, MD 20814; telephone (301) 504-7923.

Instructions: All submissions received must include the agency name and petition number for this rulemaking. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov.

FOR FURTHER INFORMATION CONTACT: Caroleene Paul, Directorate for Engineering Sciences, U.S. Consumer Product Safety Commission, 5 Research Place, Rockville, Maryland 20850; telephone (301) 987-2225; fax (301) 869-0294; email cpaul@cpsc.gov.

SUPPLEMENTARY INFORMATION: On April 15, 2003, Stephen Gass, David Fanning, and James Fulmer, et al. (“petitioners”) requested that we require performance standards for a system to reduce or prevent injuries from contact with the blade of a table saw. The petitioners cited estimates of 30,000 annual injuries involving table saws, with approximately 90 percent of the injuries occurring to the fingers and hands, and 10 percent of the injuries resulting in amputation. The petitioners alleged that current table saws pose an unacceptable risk of severe injury because they are inherently dangerous and lack an adequate safety system to protect the user from accidental contact with the blade.

In the Federal Register of July 9, 2003 (68 FR 40912) and September 5, 2003 (68 FR 52753), we invited comments on the issues raised by the petition (Petition No. CP03-2). We received 69 comments. CPSC staff's initial briefing package regarding the petition is available on the CPSC Web site at: http://www.cpsc.gov/library/foia/foia06/brief/tablesaw.pdf. On July 11, 2006, the Commission voted (2-1) to grant the petition and directed CPSC staff to draft an ANPR. On July 15, 2006, the Commission lost its quorum and was unable to move forward with publication of an ANPR at that time. However, CPSC staff continued to evaluate table saws and initiated a special study from January 2007 to December 2008, to gather more accurate estimates on table saw injuries and hazard patterns related to table saw injuries. Based on CPSC staff's updated information on blade contact injuries associated with table saw use and CPSC staff's evaluation of current technologies on table saws, we issued an ANPR on table saw blade contact injuries in the Federal Register of October 11, 2011 (76 FR 62678). CPSC staff also updated its briefing package, which supplements the initial briefing package, and the updated briefing package is available on the CPSC Web site at: http://www.cpsc.gov/library/foia/foia11/brief/tablesaw.pdf.

The ANPR contained information describing the product, the market for table saws, the incident data, economic considerations, existing standards, and regulatory alternatives (76 FR at 62679 through 62683). The ANPR identified three regulatory alternatives: (1) A voluntary standard addressing risks associated with table saw blade contact injuries; (2) a mandatory rule establishing performance requirements that would address table saw blade contact injuries, or (3) a labeling rule requiring specified warnings and instructions to address table saw blade contact injuries (76 FR at 62683). The ANPR also invited comment on 25 topics or issues. For the reader's convenience, we list those topics or issues here:

1. Written comments with respect to the risk of injury identified by the Commission, the regulatory alternatives being considered, and other possible alternatives for addressing the risk;

2. Any existing standard or portion of a standard that could be issued as a proposed regulation;

3. A statement of intention to modify or develop a voluntary standard to address the risk of injury discussed in this notice, along with a description of a plan (including a schedule) to do so;

4. Studies, tests, or surveys that have been performed to analyze table saw blade contact injuries, severity of injuries, and costs associated with the injuries;

5. Studies, tests, or surveys that analyze table saw use in relation to approach/feed rates, kickback, and blade guard use and effectiveness;

6. Studies, tests, or descriptions of new technologies, or new applications of existing technologies that can address blade contact injuries, and estimates of costs associated with incorporation of new technologies or applications;

7. Estimated manufacturing cost, per table saw, of new technologies or applications that can address blade contact injuries;

8. Expected impact of technologies that can address blade contact injuries on wholesale and retail prices of table saws;

9. Expected impact of technologies that can address blade contact injuries on utility and convenience of use;

10. Information on effectiveness or user acceptance of new blade guard designs;

11. Information on manufacturing costs of new blade guard designs;

12. Information on usage rates of new blade guard designs;

13. Information on U.S shipments of table saws prior to 2002, and between 2003 and 2005;

14. Information on differences between portable bench saws, contractor saws, and cabinet saws in frequency and duration of use;

15. Information on differences between saws used by consumers, saws used by schools, and saws used commercially in frequency and duration of use;

16. Studies, research, or data on entry information of materials being cut at blade contact (I.E., approach angle, approach speed, and approach force);

17. Information that supports or disputes preliminary economic analyses on the cost of employing technologies that reduce blade contact injuries on table saws;

18. Studies, research, or data on appropriate indicators of performance for blade-to-skin requirements that mitigate injury;

19. Studies, research, or data that validates human finger proxies for skin-to-blade tests;

20. Studies, research, or data on detection/reaction systems that have been employed to mitigate blade contact injuries;

21. Studies, research, or data on the technical challenges associated with developing new systems that could be employed to mitigate blade contact injuries;

22. Studies, research, or data on guarding systems that have been employed to prevent or mitigate blade contact injuries;

23. Studies, research, or data on kickback of a work piece during table saw use;

24. The costs and benefits of mandating a labeling or instructions requirement; and

25. Other relevant information regarding the addressability of blade contact injuries.

The ANPR requested comments by December 12, 2011.

On November 3, 2011, the Power Tool Institute, Inc. (“PTI”) requested a 60-day extension of the comment period. PTI explained that in March 2011, it had submitted a Freedom of Information Act request for all documents and materials related to and underlying the “Table Saw Study” conducted by CPSC staff. It further explained that:

In the ANPR, CPSC makes it clear that it was this updated injury information upon which the Commission's decision to issue the proposed rule was based. The importance of this injury data, and the associated materials describing the context of the injuries, makes it vital that stakeholders have the ability to analyze this information prior to submitting comments on the ANPR.

Letter from Susan M. Young, Power Tool Institute, Inc., to Inez M. Tenenbaum, Chairman, Consumer Product Safety Commission, dated November 3, 2011, at 1. PTI further indicated that it had not received all materials relating to its FOIA request and, between September 29, 2011 and October 28, 2011, had submitted an additional three FOIA requests for other materials pertaining to the “CPSC's development of a table saw standard.” Id. at 1-2. PTI said that:

A 60-day extension of the comment period would allow PTI the ability to adequately analyze the reports underlying the Table Saw Study, give CPSC staff time to respond to PTI's outstanding FOIA requests, and give PTI the opportunity to formulate an adequate analysis of the information received. With the additional time granted, PTI will be in a position to submit comments to CPSC in support of the Commission's goal of increasing public protection from unnecessary injuries.

Id. at 2.

The Commission has produced all underlying reports regarding the Table Saw Study to PTI, including more than 800 pages of information. While additional FOIA requests by PTI may be pending, the documents relevant to the Table Saw Study all have been produced, and PTI's other FOIA requests seek documents on different products or issues that are not relevant to the ANPR. Thus, the production of additional documents in response to PTI's outstanding FOIA requests does not justify a further extension of the comment date. However, to ensure that the public has an adequate opportunity to comment with regard to the underlying reports regarding the Table Saw Study that have been produced to PTI, the Commission will be posting those reports in its FOIA Reading Room on the CPSC Web site and will make them a part of the administrative record. Through this notice, we are announcing a 60-day extension of the comment period to give all interested parties additional time to prepare their responses to the ANPR. Thus, the comment period for the ANPR is extended to February 10, 2012.

Dated: November 29, 2011.
Todd A. Stevenson,
Secretary, U.S. Consumer Product Safety Commission.

[FR Doc. 2011-31008 Filed 12-1-11; 8:45 am]

BILLING CODE 6355-01-P